DEPARTMENT OF ENERGY

Federal Energy Regulatory Commission

[Docket No. PL02-4-000]

Rate Ceiling for Capacity Release Transactions; Notice of Staff Paper

May 30, 2002.

Take notice that the Commission's Staff is posting a Staff Paper presenting data on capacity release transactions relating to the experimental period when the rate ceiling on released capacity was waived. The purpose of this paper is to stimulate comment that can guide the development of policies relating to this issue. This paper, as well as additional information and a spreadsheet will be posted on the Commission's Web site at http://www.ferc.fed.us/gas/gas.htm.

Comments on this paper should be filed within 30 days of the issuance of the instant notice. Comments may be filed electronically or in paper format. For electronic filings via the Internet, see 18 CFR 385.2001(a)(1)(iii) (2001) and the instructions on the Commission's Web site under the “e-Filing” link. For paper filings, the original and 14 copies of the comments should be submitted to the Office of the Secretary, Federal Energy Regulatory Commission, 888 First Street, NE, Washington DC 20426. All comments will be placed in the Commission's public files and will be available for inspection in the Commission's Public Reference Room at 888 First Street, NE, Washington DC 20426, during regular business hours. Additionally, all comments may be viewed, printed, or downloaded remotely via the Internet through FERC's home page using the RIMS link. User assistance for RIMS is available at 202-208-2222, or by e-mail to rimsmaster@ferc.gov.

Questions regarding this Notice should be directed to:

Robert McLean, Office of General Counsel, Federal Energy Regulatory Commission, 888 First Street, NE, Washington, DC 20426. 202-208-1179. Robert.Mclean@ferc.gov.

Magalie R. Salas,
Secretary.

[FR Doc. 02-14148 Filed 6-5-02; 8:45 am]

BILLING CODE 6717-01-P